POSTAL REGULATORY COMMISSION

[Docket No. C2025-7; Order No. 8958]

Complaint

AGENCY: Postal Regulatory Commission.

ACTION: Notice.

SUMMARY: The Commission is providing notice that the Complainants and the Postal Service have jointly moved to stay the instant proceedings pending final decision of a United States Court of Appeals case. This document grants the joint motion.

ADDRESSES: Documents can be accessed electronically through the Commission's website at https://www.prc.gov.

FOR FURTHER INFORMATION CONTACT: David A. Trissell, General Counsel, at 202-789-6820.

SUPPLEMENTARY INFORMATION:

Table of Contents

I. Introduction and Commission Analysis

II. Ordering Paragraphs

I. Introduction and Commission Analysis

On June 26, 2025, Copper Beech Townhome Communities Twenty One, LLC and Copper Beach Townhome Communities Thirty Six, LLC (Complainants) and the Postal Service jointly moved to stay the current proceedings pending the final decision of the United States Court of Appeals for the District of Columbia in Edwards v. Postal Regul. Comm'n, No. 24-1370 (D.C. Cir., appeal filed Nov. 27, 2024) (Edwards appeal).¹ In support, the parties note that the Commission, while allowing several of Complainants' claims to proceed, has also held several counts in abeyance pending the resolution of the Edwards appeal.² The parties explain that staying the proceedings “will conserve the parties' and the Commission's resources” by avoiding unnecessary or possibly duplicative discovery. Joint Motion at 1-2.

¹ Joint Motion to Stay Proceedings, June 26, 2025, at 1 (Joint Motion).

² Joint Motion at 1 (citing Order Partially Denying United States Postal Service's Motion to Dismiss the February 5, 2025 Amended Complaint and Notice of Limited Formal Proceedings, May 1, 2025 (Order No. 8827)).

For the reasons given by the parties in their joint motion, the Commission will stay the proceedings pending the final decision of the United States Court of Appeals for the District of Columbia in the Edwards appeal.

II. Ordering Paragraphs

It is ordered:

1. The Joint Motion to Stay Proceedings, filed June 26, 2025, is granted.

2. The Commission shall stay Docket No. C2025-7 pending the final decision of the United States Court of Appeals for the District of Columbia in Edwards v. Postal Regul. Comm'n, No. 24-1370 (D.C. Cir., appeal filed Nov. 27, 2024).

3. The Secretary shall arrange for publication of this Order, or abstract thereof, in the Federal Register.

By the Commission.
Erica A. Barker,
Secretary.

[FR Doc. 2025-12679 Filed 7-7-25; 8:45 am]

BILLING CODE 7710-FW-P